DEPARTMENT OF AGRICULTURE

Animal and Plant Health Inspection Service

[Docket No. APHIS-2021-0005]

Addition of Malaysia to the List of Regions Considered Affected With African Horse Sickness

AGENCY: Animal and Plant Health Inspection Service, USDA.

ACTION: Notice.

SUMMARY: We are advising the public that we have added Malaysia to the list of regions that the Animal and Plant Health Inspection Service considers to be affected with African horse sickness (AHS). We have taken this action because of confirmation of AHS in Malaysia.

DATES: Malaysia was added to the Animal and Plant Health Inspection Service list of regions considered affected with African horse sickness on September 3, 2020.

FOR FURTHER INFORMATION CONTACT: Dr. Kari Coulson, Regionalization Evaluation Services, Veterinary Services, APHIS, 920 Main Campus Drive, Suite 200, Raleigh, NC 27606; (919) 480-9876; email: AskRegionalization@usda.gov.

SUPPLEMENTARY INFORMATION: The regulations in 9 CFR part 93 govern the importation of live animals into the United States. Within part 93, § 93.308 (referred to below as the regulations) governs, among other things, the importation of horses, mules, zebras, and other equids from regions where African horse sickness (AHS) exists in order to prevent the introduction of AHS into the United States. AHS is a fatal viral equine disease that is not known to exist in the United States. A list of regions where AHS exists or is reasonably believed to exist is maintained on the Animal and Plant Health Inspection (APHIS) website at https://www.aphis.usda.gov/aphis/ourfocus/animalhealth/animal-and-animal-product-import-information/animal-health-status-of-regions/. This list is referenced in § 93.308 of the regulations.

Section 93.308(a)(2)(ii) of the regulations states that APHIS will add a region to the list referenced in § 93.308(a)(2) upon determining AHS exists in the region, based on reports APHIS receives of outbreaks of the disease from veterinary officials of the exporting country, from the World Organization for Animal Health (OIE), or from other sources the Administrator determines to be reliable.

On September 2, 2020, the veterinary authorities of Malaysia reported to the OIE confirmation of an AHS outbreak. In response to that report, on September 3, 2020, APHIS added Malaysia to the list of regions where AHS exists. This notice serves as an official record and public notification of that action.

Pursuant to the Congressional Review Act (5 U.S.C. 801 et seq.), the Office of Information and Regulatory Affairs designated this action as not a major rule, as defined by 5 U.S.C. 804(2).

Authority: 7 U.S.C. 1622 and 8301-8317; 21 U.S.C. 136 and 136a; 31 U.S.C. 9701; 7 CFR 2.22, 2.80, and 371.4.

Done in Washington, DC, this 18th day of November 2021.
Jack Shere,
Acting Administrator, Animal and Plant Health Inspection Service.

[FR Doc. 2021-25588 Filed 11-22-21; 8:45 am]

BILLING CODE 3410-34-P